DEPARTMENT OF TRANSPORTATION

Federal Aviation Administration

RTCA Special Committee 198: Next-Generation Air/Ground Communications System (NEXCOM)

AGENCY: Federal Aviation Administration (FAA), DOT.

ACTION: Notice of RTCA Special Committee 198 meeting.

SUMMARY: The FAA is issuing this notice to advise the public of a meeting of RTCA Special Committee 198: Next-Generatiaon Air/Ground Communications System (NEXCOM).

DATES: The meeting will be held on June 28, 2001, starting at 9:00 a.m.

ADDRESSES: The meeting will be held at RTCA Headquarters, 1140 Connecticut Avenue, NW., Suite 1020, Washington, DC 20036.

FOR FURTHER INFORMATION CONTACT: RTCA Secretariat, 1140 Connecticut Avenue, NW., Washington, DC 20036; telephone (202) 833-9339; fax (202) 833-9434; web site http://www.rtca.org.

SUPPLEMENTARY INFORMATION: Pursuant to section 10(a)(2) of the Federal Advisory Committee Act (P.L. 92-463, 5 U.S.C., Appendix 2), notice is hereby given for a Special Committee 198 meeting. NOTE: WG-1, “Response,” will meet at RTCA June 29, 2001; WG-2, “Principles,” will meet at RTCA June 26-27, 2001. The agenda will include:

June 28

• Opening Session (Welcome and Introductory Remarks, Review Minutes of Previous Meeting, Introduction of Working Group Chairs and Secretaries).

• Review Position Papers for WG-1 and Second Draft of WG-1 Response to Chairman's Report.

• Review Position Papers for WG-2 and Revised Draft of WG-2 Principles of Operation.

• Working Groups Review Status of Action Items.

• Closing Session (Date and Place of Next Meeting).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on June 4, 2001.
Jane P. Caldwell,
Program Director, System Engineering Resource Management.

[FR Doc. 01-15489 Filed 6-19-01; 8:45 am]

BILLING CODE 4910-13-M